DEPARTMENT OF THE INTERIOR

U.S. Fish and Wildlife Service

Innoko National Wildlife Refuge, McGrath, AK

AGENCY: U.S. Fish and Wildlife Service, Interior.

ACTION: Notice of Availability of the Draft Revised Comprehensive Conservation Plan and Environmental Assessment for Innoko National Wildlife Refuge; request for comments.

SUMMARY: We, the U.S. Fish and Wildlife Service (Service, we), announce that the Draft Revised Comprehensive Conservation Plan (Draft CCP) and Environmental Assessment (EA) for the southern unit of the Innoko National Wildlife Refuge is available for public comment. The Draft CCP/EA was prepared pursuant to the Alaska National Interest Lands Conservation Act of 1980 (ANILCA), the National Wildlife Refuge System Administration Act of 1966 (Refuge Administration Act) as amended by the National Wildlife Refuge System Improvement Act of 1997 (Refuge Improvement Act), and the National Environmental Policy Act of 1969 (NEPA). It describes two alternatives for managing the southern unit of the Innoko Refuge for the next 15 years, including continuing current management. We will use special mailings to inform the public of opportunities to provide input on the CCP/EA and will hold public meetings in communities near the Refuge (Grayling, Anvik, Shageluk, Holly Cross, Kaltag, McGrath, and Takotna).

DATES: Comments on the Draft CCP/EA must be received on or before July 22, 2008.

ADDRESSES: To provide written comments or to request a paper copy or a compact disk of the Draft CCP/EA, contact Rob Campellone, Planning Team Leader, U.S. Fish and Wildlife Service, 1011 East Tudor Rd., MS-231, Anchorage, Alaska 99503; telephone: (907) 786-3982; fax: (907) 786-3965; e-mail: fw7_innoko_planning@fws.gov. You may also view or download a copy of the Draft CCP/EA at the following Web site: http://alaska.fws.gov/nwr/planning/innpol.htm. Copies of the Draft CCP/EA may be viewed at the Innoko Refuge Office in McGrath, Alaska, and the U.S. Fish and Wildlife Service Regional Office in Anchorage, Alaska.

FOR FURTHER INFORMATION CONTACT: Rob Campellone at the address or phone number provided above.

SUPPLEMENTARY INFORMATION: The ANILCA (16 U.S.C. 410hh et seq., 43 U.S.C. 1602 et seq.) requires development of a CCP for all national wildlife refuges in Alaska. The Draft CCP/EA for the southern unit of the Innoko Refuge was developed consistent with Section 304(g) of ANILCA and the Refuge Administration Act as amended by the Refuge Improvement Act (16 U.S.C. 668dd et seq.). The purpose of developing CCPs is to provide refuge managers with a 15-year management strategy for achieving refuge purposes and contributing toward the mission of the National Wildlife Refuge System, consistent with sound principles of fish, wildlife, and habitat management and conservation; legal mandates; and Service policies. Plans define long-term goals and objectives toward which refuge management activities are directed and identify which uses may be compatible with the purposes of the refuge. They identify wildlife-dependent recreation opportunities available to the public, including hunting, fishing, wildlife observation and photography, and environmental education and interpretation. Comprehensive conservation plans are updated in accordance with planning direction in Section 304(g) of ANILCA and with NEPA (42 U.S.C. 4321 et seq.).

Background: In 1980, ANILCA designated the Innoko National Wildlife Refuge. Refuge boundaries encompass approximately 3.8 million acres of which approximately 3.5 million acres (92 percent) are under Service jurisdiction. Section 302(3)(B) of ANILCA states that the purposes for which Innoko Refuge was established include: (i) To conserve fish and wildlife populations and habitats in their natural diversity; (ii) to fulfill international treaty obligations of the United States with respect to fish and wildlife and their habitats; (iii) to provide the opportunity for continued subsistence use by local residents; and (iv) to ensure water quality and necessary water quantity within the refuge. A CCP and Environmental Impact Statement were completed for the Innoko Refuge in 1987 following direction in Section 304(g) of ANILCA.

The ANILCA requires us to designate areas according to their respective resources and values and to specify programs and uses within the areas designated. To meet this requirement, the Alaska Region established management categories (wilderness, minimal, moderate, intensive, and wild river). Appropriate activities, public uses, commercial uses, and facilities are identified for each management category. Two management categories (wilderness and minimal) apply to the southern unit of the Innoko Refuge.

The 1997 Refuge Improvement Act includes additional direction for conservation planning throughout the National Wildlife Refuge System. This direction has been incorporated into national planning policy for the National Wildlife Refuge System, including refuges in Alaska. This draft revision of the Innoko CCP/EA meets the requirements of both ANILCA and the Refuge Administration Act as amended by the Refuge Improvement Act.

Issues raised during scoping and addressed in the Draft CCP/EA are (1) Competition for moose harvesting; (2) management of air taxis to balance demand for visitor access with user experience and resource protection; (3) threats to water quality from off-refuge mining; (4) refuge enhancement of its relationship with local communities; (5) monitoring and addressing the effects of climate change; (6) the proposed reintroduction of wood bison by the Alaska Department of Fish and Game; and (7) ensuring resource protection while providing for subsistence and other public uses.

The Draft CCP/EA describes and evaluates two alternatives for managing the southern unit of the Innoko Refuge for the next 15 years. These alternatives follow much of the same general management direction. Alternative A (the No-Action Alternative) is required under NEPA and describes continuation of current management activities. Alternative A serves as a baseline against which to compare the other alternative. Under Alternative A, management of the southern unit of the Innoko Refuge would continue to follow direction described in the 1987 CCP and record of decision as modified by subsequent program-specific plans (e.g., fisheries, cultural resources, fire management plans). Currently 61 percent of the refuge is in minimal management, 34.5 percent is designated as Wilderness, and 4.5 percent is in private ownership. Alternative A would continue to protect and maintain the existing wildlife values, natural diversity, and ecological integrity of the refuge. Human disturbances to fish and wildlife habitats and populations would be minimal. Private and commercial uses of the refuge would not change, and public uses employing existing access methods would continue to be allowed. Opportunities to pursue traditional subsistence activities, and recreational hunting, fishing, and other wildlife dependent activities, would be maintained. Opportunities to pursue research would be maintained. Alternative B (the Proposed Action) would generally continue to follow management direction described in the 1987 CCP and record of decision as modified by subsequent program-specific plans, but some of that management direction has been updated by changes in policy since the 1987 Innoko Refuge CCP was approved. Alternative B identifies these specific changes in management direction as well as goals and objectives for refuge management.

Public Availability of Comments: Before including your name, address, phone number, e-mail address, or other personal identifying information in your comment, you should be aware that your entire comment—including your personal identifying information—may be made publicly available at any time. While you can ask us in your comment to withhold your personal identifying information from public review, we cannot guarantee that we will be able to do so. We will make all comments from individual persons part of the official public record. We will handle requests for such comments in accordance with the Freedom of Information Act, NEPA, and Departmental policies and procedures.

Dated: May 8, 2008.
Thomas O. Melius,
Regional Director, U.S. Fish and Wildlife Service, Anchorage, Alaska.

[FR Doc. E8-10810 Filed 5-13-08; 8:45 am]

BILLING CODE 4310-55-P